Proclamation 9488 of September 9, 2016

National Days of Prayer and Remembrance, 2016

By the President of the United States of America

A Proclamation

On September 11, 2001, a group of small and hateful minds conspired to threaten the very fiber of our country, seeking to break the American spirit and destroy our way of life. From the Atlantic to the Pacific, Americans were struck with grief as devastation and senseless loss of innocent human life unfolded. In the empty shadow of the World Trade Center, the remains of the Pentagon, and a charred Pennsylvania field where courageous passengers saved countless lives, what emerged from the ashes of that day was not defeat—it was the heroism, compassion, and unity of the American people, which no act of terror or hate could ever take away. On September 11, we recall the true spirit of our Nation following these heinous attacks, and we resolve to enshrine the enduring compassion and love of our people forever in the heart of America.

Fifteen years later, we pay tribute to the loss of nearly 3,000 lives, reflect on treasured memories of those we lost, and resolve to never forget that day, even as we look toward a brighter and more hopeful future. We draw inspiration from the survivors who still bear the scars—both seen and unseen—of that tragic day. We honor the valiance of our Nation's first responders, whose instinct was not to turn back to find safety for themselves, but to run toward untold danger. We show our gratitude to those young Americans of the 9/11 Generation, who until that day lived knowing only peace, but who have answered our country's call to serve under our flag to meet the threats of our time with bravery and distinction.

In the years that have followed, with prayer and reflection, grace and faith, Americans have grieved together, held each other close, and looked out for one another. Though the void felt by those who lost a loved one on that day can never be filled, we can continue to heal the wounds inflicted by hatred by honoring the notion that, no matter our differences, we are forever united as one American family.

As we mourn on this most solemn anniversary, let us also reflect on the freedom and tolerance that define this great Nation, and let us reaffirm our commitment to preserving those fundamental values for each generation of Americans to come.

NOW, THEREFORE, I, BARACK OBAMA, President of the United States of America, by virtue of the authority vested in me by the Constitution and the laws of the United States, do hereby proclaim Friday, September 9 through Sunday, September 11, 2016, as National Days of Prayer and Remembrance. I ask that the people of the United States honor and remember the victims of September 11, 2001, and their loved ones through prayer, contemplation, memorial services, the visiting of memorials, the ringing of bells, evening candlelight remembrance vigils, and other appropriate ceremonies and activities. I invite people around the world to participate in this commemoration.

IN WITNESS WHEREOF, I have hereunto set my hand this ninth day of September, in the year of our Lord two thousand sixteen, and of the Independence of the United States of America the two hundred and forty-first.

[FR Doc. 2016-22290

Filed 9-13-16; 11:15 am]

Billing code 3295-F6-P